DEPARTMENT OF COMMERCE

National Oceanic and Atmospheric Administration

Agency Information Collection Activities; Submission to the Office of Management and Budget (OMB) for Review and Approval; Comment Request; Regional Coastal Observing Systems (RCOS)

AGENCY: U.S. Integrated Ocean Observing System (IOOS), National Ocean Service (NOS), National Oceanic and Atmospheric Administration (NOAA), Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 10, 2025.

ADDRESSES: Interested persons are invited to submit written comments to Adrienne Thomas, NOAA PRA Officer, at NOAA.PRA@noaa.gov. Please reference OMB Control Number 0648-0672 in the subject line of your comments. All comments received are part of the public record and will generally be posted on https://www.regulations.gov without change. Do not submit Confidential Business Information or otherwise sensitive or protected information.

FOR FURTHER INFORMATION CONTACT: Requests for additional information or specific questions related to collection activities should be directed to Courtney Edwards, IOOS, 1315 East West Hwy, Silver Spring, MD 20910-3282, by phone at (202) 936-5742, or by email at courtney.edwards@noaa.gov.

SUPPLEMENTARY INFORMATION:

I. Abstract

This is a request for reinstatement of a previously approved information collection. The specific information collected has not changed since the original collection. The National Oceanic and Atmospheric Administration's (NOAA's) U.S. Integrated Ocean Observing System (IOOS) is a national-regional partnership working to provide new tools and forecasts to improve safety, enhance the economy, and protect our environment. The Integrated Coastal and Ocean Observation System Act of 2009 (Pub. L. 111-11) (ICOOS Act), as amended by the Coordinated Ocean Observations and Research Act of 2020 (COORA) (Pub. L. 116-271, Title I) (33 U.S.C. 3601-3610), directed the President, acting through the National Ocean Research Leadership Council, to establish a National Integrated Coastal and Ocean Observation System (System). 33 U.S.C. 3603(a). The ICOOS Act directs NOAA, as the lead Federal agency for implementing and administering the System, to “promulgate program guidelines—to certify and integrate regional associations into the System.” 33 U.S.C. 3603(c)(3)(C).

In response to the ICOOS Act's mandate, NOAA promulgated final regulations identifying program guidelines for the compliance procedures and requirements for certifying Regional Information Coordination Entities (RICEs), now known as Regional Coastal Observing Systems (RCOS). 15 CFR 997.1-997.26. The program guidelines identify the process and requirements for certifying the RCOSs. Submission of an application by an organization for certification as a RCOS is voluntary, and there is no deadline for an entity to submit an application to be certified. The organization's application is used to collect information required by IOOS's regulations in order for IOOS to certify the organization as an RCOS and integrate it into the System. When certified, RCOSs are integrated into the System through a memorandum of agreement with NOAA and for the purposes of determining that liability arising from the dissemination and use of observation data shall be considered part of NOAA, and, with respect to tort liability, designated employees of the RCOS will be deemed to be an employee of the Federal government.

RCOSs operate regional observing networks throughout the U.S., including the Pacific Islands and the Caribbean, and have implemented specific practices in regard to data collection, governance, and management. They must submit rigorous documentation of these practices to the IOOS offices for review and verification. This vetting process is thorough and requires a collaborative relationship between the organization and the IOOS Program staff.

II. Method of Collection

Applications will be submitted electronically.

III. Data

OMB Control Number: 0648-0672.

Form Number(s): None.

Type of Review: Regular submission [reinstatement with minor administrative changes to update the name of the program and participants].

Affected Public: Business or other for-profit organizations; Not-for-profit institutions; State, Local, or Tribal government; Federal government.

Estimated Number of Respondents: 11.

Estimated Time per Response: Application: 290 hours.

Estimated Total Annual Burden Hours: 1,160.

Estimated Total Annual Cost to Public: $0.

Respondent's Obligation: Voluntary.

Legal Authority: 33 U.S.C. 3601-3610; 15 CFR 997.1-997.26.

IV. Request for Comments

We are soliciting public comments to permit IOOS to: (a) Evaluate whether the proposed information collection is necessary for the proper functions of IOOS, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-17358 Filed 9-9-25; 8:45 am]

BILLING CODE 3510-NE-P